DEPARTMENT OF TRANSPORTATION

Coast Guard

33 CFR Part 117

[CGD13-00-029]

RIN 2115-AE87

Drawbridge Operations Regulations; Duwamish River, WA

AGENCY: Coast Guard, DOT.

ACTION: Withdrawal of proposed rule.

SUMMARY: The Coast Guard is withdrawing the proposed rulemaking to amend the operating regulations of the dual bascule drawbridges on First Avenue South across the Duwamish River, mile 2.5, at Seattle, Washington. This rulemaking is being withdrawn because of the insufficient road traffic volume and congestion data provided by the bridge owner to justify the proposed change and because of objections made by navigational interests. Three marine transport companies objected to the proposed addition of one hour to the existing afternoon closed period. The bridge currently is closed to vessels of less than 5000 gross tons for six hours each day Monday through Friday. These objectors are major commercial users of the Duwamish Waterway and all are engaged in various degrees with major shipping to Alaska from Seattle. One of these also observed that the dual drawspans are not operated simultaneously. Simultaneous operation could reduce the length of the operating cycle and therefore reduce the time that roadway traffic is obstructed by draw span operations.

DATES: The proposed rulemaking is withdrawn effective April 24, 2001.

FOR FURTHER INFORMATION CONTACT: Austin Pratt, Chief, Bridge Section, Aids to Navigation and Waterways Management Branch, Thirteenth Coast Guard District, (206) 220-7282.

SUPPLEMENTARY INFORMATION: This notice withdraws the notice of proposed rulemaking for the amendment of drawbridge operations regulations, published in the Federal Register, August 18, 2000 (65 FR 50480, CGD13-00-029).

Dated: 10 April 2001.
Erroll Brown,
Rear Admiral, U.S. Coast Guard, Commander, Thirteenth Coast Guard District

[FR Doc. 01-10138 Filed 4-23-01; 8:45 am]

BILLING CODE 4910-15-U